DEPARTMENT OF COMMERCE

National Oceanic and Atmospheric Administration

[I.D. 111003C]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) and its Ecosystems Committee and Executive Committee will hold public meetings.

DATES: The meetings will be held on Tuesday, December 2, through Thursday, December 4, 2003. See SUPPLEMENTARY INFORMATION for specific dates and times.

ADDRESSES: This meeting will be held at the Sheraton Suites, 422 Delaware Avenue, Wilmington, DE; telephone: 302-654-8300.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION: On Tuesday, December 2, the Ecosystems Committee will meet from 10 a.m. until noon. The Council will meet from 1 p.m. to 5 p.m. On Wednesday, December 3, the Executive Committee will meet from 8 a.m. to 9 a.m. The Council will meet from 9 a.m. to 10 a.m. The Council, together with the Atlantic States Marine Fisheries Commission's (ASMFC) Summer Flounder, Scup, and Black Sea Bass Board, will meet from 10 a.m. until 5 p.m. On Thursday, December 4, the Council will meet from 8 a.m. until 4 p.m.

Agenda items for the Council's committees and the Council itself are: Review the committee charge regarding ecosystem-based management, habitat, GRAs, etc., and determine the need for advisors; Review the effect of the New England Council's action and likely schedule of events on Groundfish Amendment 13; Address the exclusion of limited access vessels and develop the Council position on NMFS' proposed action on Scallop Amendment 10; Review Delaware's Artificial Reef Plan: Review the Monkfish Committee's action regarding changes to management for 2004/05 fishing year, and adopt default measures or recommend new measures for 2004/05 fishing year; Review committees 2004 planned actions and schedules, and review committee advisory panel status; Review and adopt Framework 4 to the Squid, Mackerel, and Butterfish Framework 4 (Meeting 2) which extends the Illex squid moratorium; Review and discuss the Monitoring Committees' recommendations, review and discuss the Advisory Panels' recommendations, and develop and approve recreational management measures for 2004 for summer flounder, scup, and black sea bass; Hear a presentation of the Council's Communications Plan; Receive and hear committee and organizational reports, and act on any new and/or continuing business.

Although non-emergency issues not contained in this agenda may come before the Council for discussion, these issues may not be the subject of formal Council action during these meetings. Council action will be restricted to those issues specifically listed in this notice and any issues arising after publication of this notice that require emergency action under section 305(c) of the Magnuson-Stevens Act, provided the public has been notified of the Council's intent to take final actions to address such emergencies.

Special Accommodations

These meetings are physically accessible to people with disabilities. Requests for sign language interpretation or other auxiliary aids should be directed to Joanna Davis at the Council (see ADDRESSES) at least 5 days prior to the meeting date.

Dated: November 12, 2003.
Richard W. Surdi,
Acting Director, Office of Sustainable Fisheries, National Marine Fisheries Service.

[FR Doc. E3-00272 Filed 11-14-03; 8:45 am]

BILLING CODE 6717-01-P